DEPARTMENT OF AGRICULTURE

Office of the Chief Financial Officer

Notice of Request for Approval of a Renewal Information Collection

AGENCY: Office of the Chief Financial Officer, USDA.

ACTION: Notice and request for comments.

SUMMARY: This notice announces the intention of the Office of the Chief Financial Officer to request the renewal of a currently approved information collection (OMB No. 0505-0025) associated with Representations Regarding Felony Conviction and Tax Delinquent Status For Corporate Applicants and Assurance Regarding Felony Conviction or Tax Delinquent Status For Corporate Applicants.

DATES: Written comments on this notice must be received by February 4, 2019 to be assured of consideration.

ADDRESSES: Comments may be submitted by either/one of the following methods:

• Federal eRulemaking Portal: This website provides the ability to type short comments directly into the comment field on this web page or attach a file for lengthier comments. Go to http://www.regulations.gov. Follow the on-line instructions at that site for submitting comments.

• Postal Mail/Commercial Delivery: Send to Director, Transparency and Accountability Reporting Division, Office of the Chief Financial Officer, Room 3027-S, Stop Code 9011, U.S. Department of Agriculture, 1400 Independence Avenue SW, Washington, DC 20250.

All comments received will be available for public inspection and posted without change, including any personal information, to http://regulations.gov, or during regular business hours at the same address.

FOR FURTHER INFORMATION CONTACT: Martha E. Burton, Management Analyst, Transparency and Accountability Reporting Division, Office of the Chief Financial Officer, Room 3027-S, Stop Code 9011, U.S. Department of Agriculture, 1400 Independence Avenue SW, Washington, DC 20250; (202) 205-6182; martha.burton@usda.gov.

SUPPLEMENTARY INFORMATION: In accordance with the Paperwork Reduction Act of 1995 (44 U.S.C. Chapter 35), this notice announces the intention of the Office of the Chief Financial Officer to request approval from the Office of Management and Budget (OMB) to renew an approved information collection (OMB No. 0505-0025) associated with Representations Regarding Felony Conviction and Tax Delinquent Status for Corporate Applicants and Awardees in nonprocurement programs.

Title: Representations Regarding Felony Conviction and Tax Delinquent Status for Corporate Applicants and Awardees in Nonprocurement Programs.

OMB Number: 0505-0025.

Expiration Date of Current Approval: April 2019.

Form Numbers: AD-3030 (Representations Regarding Felony Conviction and Tax Delinquent Status For Corporate Clients), AD-3031 (Assurance Regarding Felony Conviction or Tax Delinquent Status For Corporate Applicants).

Type of Request: Renewal of a currently approved information collection.

Abstract: The U.S. Department of Agriculture's (USDA) agencies and staff offices must comply with the restrictions set forth in sections 745 and 746 of the Consolidated Appropriations Act, 2017, Public Law 115-31, as amended and/or subsequently enacted), hereinafter Public Law 115-31, which prevents agencies from doing business with corporations that (1) have been convicted of a felony criminal violation under Federal law within the preceding 24 months preceding the award and/or (2) have any unpaid Federal tax liability that has been assessed, for which all judicial administrative remedies have been exhausted or have lapsed, and that is not being paid in a timely manner pursuant to an agreement with the authority responsible for collecting the tax liability; unless the agency or staff office has considered suspension or debarment of the recipient corporation and made a determination that suspension or debarment is not necessary to protect the interests of the Government.

To comply with the appropriation restrictions, the information collection requires corporate applicants and awardees for USDA programs to represent accurately whether they have or do not have qualifying felony convictions or tax delinquencies that would prevent entrance into proposed business transactions with USDA. For nonprocurement programs and transactions, these representations are collected on Forms AD-3030 (Representations Regarding Felony Conviction and Tax Delinquent Status For Corporate Applicants) and AD-3031 (Assurance Regarding Felony Conviction Or Tax Delinquent Status For Corporate Applicants). This notice and proposed renewal of an approved information collection deal only with USDA nonprocurement transactions. The categories of nonprocurement transactions covered include: Nonprocurement contracts, grants, loans, loan guarantees, cooperative agreements, and some memoranda of understanding/agreement. For more specific information about whether a particular nonprocurement program or transaction is included in this list please contact the USDA agency or staff office responsible for the program or transaction in question.

In fiscal years 2012-2014 the appropriation restriction provisions were not uniform across the government. To effectuate compliance, USDA initially created and received clearance of two sets of forms—one set for use by all USDA agencies and offices, except the Forest Service (AD-3030, AD-3031) and one set for use by the Forest Service (AD-3030-FS and AD-3031-FS). In 2015, Congress eliminated the multiple versions of the appropriation restriction provisions and enacted a single set of governmentwide provisions for all agencies and departments, thereby allowing USDA to collect this data with one set of forms—AD-3030 and AD-3031. The current clearance for these forms expires April 2019. The representations continue to be required as reflected in Public Law 115-31. To ensure that USDA agencies and staff offices are positioned to continue compliance with the appropriation restrictions for their duration, the Office of the Chief Financial Officer is issuing this renewal approval notice for another formal three year clearance of the information collection request. Should the appropriation restrictions become ineffective or not be continued during the three year clearance period, this information request will be cancelled when it is no longer required.

Form AD-3030 (required during the application process) will effectuate compliance with the appropriation restrictions by requiring all corporate applicants to represent at the time of application for a nonprocurement program whether they have any felony convictions or tax delinquencies that would prevent USDA from doing business with them. Form AD-3031 (applicable at the time of the award) requires an affirmative representation that corporate awardees for nonprocurement transactions do not have any felony convictions or tax delinquencies. If the application and award process occurs in a single step, the agency or staff office may require concurrent submission of both forms. Corporations (for profit and non-profit entities) include, but are not limited to, any entity that has filed articles of incorporation in one of the 50 States, the District of Columbia, or the various territories of the United States.

Collection of this information is necessary to ensure that USDA agencies and staff offices comply with the appropriation restrictions prohibiting the Government from doing business with corporations with felony convictions and/or tax delinquencies.

Estimate of Burden: Public reporting burden for this information collection is estimated to average 0.25 hours per response.

Frequency of Collection: Other: Corporations—AD-3030—each time they apply to participate in a multitude of USDA nonprocurement programs; Awardees—AD-3031—each time they receive an award from USDA nonprocurement programs.

Type of Respondents. Corporate applicants and awardees for USDA nonprocurement programs, including grants, cooperative agreements, loans, loan guarantees, some memoranda of understanding/agreement, and nonprocurement contracts.

Estimated Number of Annual Respondents: 352,523.

Estimated Number of Responses per Respondent: 2.75.

Estimated Total Annual Burden on Respondents: 969,438.

Estimate Total Annual Burden Hours on Respondents: 242,360.

Comments from interested parties are invited to help us to: (1) Evaluate whether the collection of information is necessary for the proper performance of the functions of the agencies and staff offices, including whether the information will have practical utility; (2) evaluate the accuracy of our estimate of the burden of the collection of information, including the validity of the methodology and assumptions used; (3) enhance the quality, utility, and clarity of the information to be collected; and (4) minimize the burden of the collection of information on those who are to respond, including the use of appropriate automated, electronic, mechanical, technological, and other forms of information technology collection methods.

All responses to this notice, including names and addresses when provided, will be summarized and included in the request for OMB approval. All comments will become a matter of public record.

Signed:
Tyson P. Whitney,
Director, Transparency and Accountability Reporting Division.

[FR Doc. 2018-26496 Filed 12-4-18; 8:45 am]

BILLING CODE 3410-KS-P